DEPARTMENT OF ENERGY

Federal Energy Regulatory Commission

[Docket No. RP97-81-014]

Kinder Morgan Interstate Gas Transmission LLC; Notice of Negotiated Rate

November 14, 2002.

Take notice that on November 12, 2002, Kinder Morgan Interstate Gas Transmission LLC (KMIGT) tendered for filing of the following tariff sheets, to be effective November 1, 2002:

Fourth Revised Volume No. 1-A

Ninth Revised Sheet No. 4G

Second Revised Sheet No. 4H

Third Revised Sheet No. 4I

The above-referenced tariff sheets reflect a negotiated rate contract effective November 1, 2002. The tariff sheets are being filed pursuant to Section 36 of KMIGT's FERC Gas Tariff Fourth Revised Volume No. 1-B, and the procedures prescribed by the Commission in its December 31, 1996 “Order Accepting Tariff Filing Subject to Conditions”, in Docket No. RP97-81 (77 FERC ¶ 61,350) and the Commission's Letter Orders dated March 28, 1997 and November 30, 2000 in Docket Nos. RP97-81-001, and RP01-70-000, respectively.

KMIGT states that a copy of this filing has been served upon all parties to this proceeding, KMIGT's customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-29431 Filed 11-19-02; 8:45 am]

BILLING CODE 6717-01-P